Proclamation 10012 of April 17, 2020

National Volunteer Week, 2020

By the President of the United States of America

A Proclamation

Civic engagement and volunteer service strengthens the fabric of our Nation and reflects the true heart, spirit, and goodness of America. National Volunteer Week is an opportunity to recognize and honor the countless individuals who selflessly invest in the lives of others. These ordinary citizens make extraordinary contributions to individuals, families, neighborhoods, communities, and our Nation.

Our national character is measured by the unity, compassion, and initiative shown by Americans who help others. Volunteers serving in community and charitable organizations, faith-based institutions, and nonprofits fulfill critical needs and challenges faced by people of all ages and backgrounds. In soup kitchens, shelters, schools, hospitals, religious organizations, and countless other venues, volunteers foster a spirit of kindness and goodwill in communities large and small throughout the United States. When friends, neighbors, and strangers unite for a common cause, it demonstrates that we have the power to change lives and improve our world.

We have never needed the volunteerism of America more than we do today. The coronavirus poses an unprecedented risk to the health, wellbeing, and prosperity of our Nation. True to form, in the midst of these turbulent times, Americans are unifying with unprecedented compassion, courage, and strength, bringing help and hope to those who need it most. Countless Americans have found unique and innovative ways to spread joy and meet the emotional, physical, and spiritual needs of others, despite the need to adhere to social distancing measures. Some are using technology to read stories to children and teach virtual classes; others are delivering necessities, such as groceries and medications, to seniors and others who are most at-risk from the virus. Non-profit organizations and companies are also mobilizing to provide equipment, supplies, resources, and necessities to people in need. Licensed healthcare professionals have stepped up as volunteers like never before for their fellow Americans to combat the coronavirus pandemic. If you have the ability to join their ranks, please visit www.FEMA.gov/coronavirus/how-to-help.

Volunteering to donate blood is especially important right now. Currently, our country's blood and platelet supply is dangerously low, and many blood drives have been cancelled. This extreme shortage poses a severe threat for our Nation's injured and those battling serious illnesses. I urge healthy Americans who are able to help fix this by making an appointment to give blood at a local donation center. Blood donation centers have safety protocols in place to prevent the spread of infections, including the coronavirus. The power of this safe and simple act of service is immeasurable.

This National Volunteer Week, we pay tribute to men and women of all ages who devote their time, talent, and resources to the greater good. These unsung heroes expand the capacity of countless organizations across our Nation and around the world. During this pivotal time of uncertainty and shared sacrifice, Melania and I are especially grateful to all Americans who demonstrate love, compassion, mercy, and respect for humankind through volunteer service. Their actions enhance their own lives and the lives of those they serve, reflecting the best of America and the enduring principles that bind us together.

NOW, THEREFORE, I, DONALD J. TRUMP, President of the United States of America, by virtue of the authority vested in me by the Constitution and the laws of the United States, do hereby proclaim April 19 through April 25, 2020, as National Volunteer Week. I call upon all Americans to observe this week by volunteering in service projects across our country and pledging to make service a part of their daily lives.

IN WITNESS WHEREOF, I have hereunto set my hand this seventeenth day of April, in the year of our Lord two thousand twenty, and of the Independence of the United States of America the two hundred and forty-fourth.

[FR Doc. 2020-08841

Filed 4-22-20; 11:15 am]

Billing code 3295-F0-P